DEPARTMENT OF COMMERCE

National Oceanic and Atmospheric Administration

RIN 0648-XF569

Caribbean Fishery Management Council; Public Meeting

AGENCY: National Marine Fisheries Service (NMFS), National Oceanic and Atmospheric Administration (NOAA), Commerce.

ACTION: Notice of a public meeting.

SUMMARY: The Caribbean Fishery Management Council (Council) will hold its 160th meeting.

DATES: The meeting will be held on August 15-16, 2017. The Council will convene on Tuesday, August 15, 2017, from 9 a.m. to 5 p.m., and will reconvene on Wednesday, August 16, 2017, from 9 a.m. to 5 p.m.

ADDRESSES: The meeting will be held at the Courtyard Marriott Isla Verde Beach Resort, 7012 Boca de Cangrejos Avenue, Carolina, Puerto Rico 00979.

FOR FURTHER INFORMATION CONTACT: Caribbean Fishery Management Council, 270 Muñoz Rivera Avenue, Suite 401, San Juan, Puerto Rico 00918; telephone: (787) 766-5926.

SUPPLEMENTARY INFORMATION: The Council will hold its 160th regular Council Meeting to discuss the items contained in the following agenda:

August 15, 2017, 9 a.m.-5 p.m.

○ Call to Order

○ Election of Officers

○ Adoption of Agenda

○ Consideration of 159th Council Meeting Verbatim Transcriptions

○ Executive Director's Report

○ Scientific and Statistical Committee Meeting Report—Richard Appeldoorn

○ District Advisory Panel Meeting Recommendations—Graciela Garcia-Moliner

○ Dolphin Fish Survey Puerto Rico and the U.S. Virgin Islands Presentation—Mr. Wessley Merten

○ Island-based Fishery Management Plans and Draft Environmental Impact Statements

—Review of Draft Actions and Alternatives for the Draft Environmental Impact Statements for each Island-Based Fishery Management Plan

—Action 1: Species to Manage (Final Draft Alternatives Complete)

—Action 2: Species Groupings (Review Final Draft Alternatives)

—Action 3: Reference Points (Review Draft Alternatives)

—Action 4: Essential Fish Habitat for Stocks Not Previously Managed in Federal Waters

—Action 5: Framework Measures

—Next Steps/Roadmap—Bill Arnold

○ Review of Accountability Measure-Based Closures for the 2017 Fishing Year

○ Update on Regulatory Amendment 6 to the Reef Fish Fishery Management Plan: Triggering Accountability Measures in the Puerto Rico Exclusive Economic Zone

○ Other Business

PUBLIC COMMENT PERIOD—

(5-minute presentations)

August 15, 2017, 5:30 p.m.-6:30 p.m.

○ Administrative Matters

—CY 2017

—Closed Session

August 16, 2017, 9 a.m.-5 p.m.

○ Update on the Commercial Port Sampling Landings Validation Project—Todd Gedamke

○ Outreach and Education Report—Alida Ortiz

○ Octopus Fishery Survey Puerto Rico—Grisel Rodriguez

○ Developing a Fishery Ecosystem Plan—Presentation on Lenfest/PEW Approach to Fishery Ecosystem Plan Development

○ Enforcement Issues:

—Puerto Rico-DNER

—U.S. Virgin Islands-DPNR

—U.S. Coast Guard

—1991 DNER/NMFS Memorandum of Understanding

—NMFS/NOAA

○ Electronic Reporting Project Update—The Nature Conservancy

○ Meetings Attended by Council Members and Staff

○ Other Business

PUBLIC COMMENT PERIOD—

(5-minute presentations)

○ Next Meeting

The established times for addressing items on the agenda may be adjusted as necessary to accommodate the timely completion of discussion relevant to the agenda items. To further accommodate discussion and completion of all items on the agenda, the meeting may be extended from, or completed prior to the date established in this notice.

The meeting is open to the public, and will be conducted in English. Simultaneous interpretation will be available. Fishers and other interested persons are invited to attend and participate with oral or written statements regarding agenda issues.

Although non-emergency issues not contained in this agenda may come before this group for discussion, those issues may not be subjects for formal action during this meeting. Actions will be restricted to those issues specifically identified in this notice, and any issues arising after publication of this notice that require emergency action under section 305(c) of the Magnuson-Stevens Fishery Conservation and Management Act, provided that the public has been notified of the Council's intent to take final action to address the emergency.

Special Accommodations

The meeting is physically accessible to people with disabilities. For more information or request for sign language interpretation and/other auxiliary aids, please contact Mr. Miguel A. Rolón, Executive Director, Caribbean Fishery Management Council, 270 Muñoz Rivera Avenue, Suite 401, San Juan, Puerto Rico 00918, telephone (787) 766-5926, at least 5 days prior to the meeting date.

Dated: July 25, 2017.
Tracey L. Thompson,
Acting Deputy Director, Office of Sustainable Fisheries, National Marine Fisheries Service.

[FR Doc. 2017-15927 Filed 7-27-17; 8:45 am]

BILLING CODE 3510-22-P